NATIONAL AERONAUTICS AND SPACE ADMINISTRATION

[Notice: 03-135]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Nancy Kaplan, Code AO, National Aeronautics and Space Administration, Washington, DC 20546-0001.

FOR FURTHER INFORMATION CONTACT: Ms. Nancy Kaplan, NASA Reports Officer, (202) 358-1372.

Title: GLOBE Program Evaluation.

OMB Number: 2700-.

Type of Review: New collection.

Need and Uses: The information collected is needed to guide implementation of the GLOBE Program based on feedback from participating teachers, students, and partners in order to help meet the Program's goal of improving student achievement in mathematics and science.

Affected Public: Individuals or households.

Number of Respondents: 2,361.

Annual Responses: 499.

Hours Per Request: 30-90 minutes each.

Annual Burden Hours: 373.

Frequency of Report: Once.

Patricia L. Dunnington,
Chief Information Officer, Office of the Administrator.

[FR Doc. 03-27075 Filed 10-27-03; 8:45 am]

BILLING CODE 7510-01-P